DEPARTMENT OF TRANSPORTATION

Federal Aviation Administration

14 CFR Part 39

[Docket No. FAA-2014-0187; Directorate Identifier 2012-NM-087-AD]

RIN 2120-AA64

Airworthiness Directives; Hawker Beechcraft Corporation Airplanes

AGENCY: Federal Aviation Administration (FAA), DOT.

ACTION: Notice of proposed rulemaking (NPRM).

SUMMARY: We propose to adopt a new airworthiness directive (AD) for certain Hawker Beechcraft Corporation (Type Certificate previously held by Mitsubishi; Raytheon Aircraft Company) Model MU-300 airplanes, and Hawker Beechcraft Corporation (Type Certificate previously held by Raytheon Aircraft Company; Beech Aircraft Corporation) Model 400, 400A, and 400T airplanes. This proposed AD was prompted by multiple reports of fatigue cracking in the horizontal stabilizer ribs. This proposed AD would require repetitive inspections of the horizontal stabilizer rib assemblies for cracking, and replacement if necessary. We are proposing this AD to detect and correct such cracking, which could result in the failure of the horizontal stabilizer and loss of pitch control of the airplane.

DATES: We must receive comments on this proposed AD by May 19, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2014-0187; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Paul Chapman, Aerospace Engineer, Airframe Branch, ACE-118W, FAA, Wichita Aircraft Certification Office (ACO), 1801 Airport Road, Room 100, Mid-Continent Airport, Wichita, Kansas 67209; telephone (316) 946-4152; fax (316) 946-4107.

SUPPLEMENTARY INFORMATION:

Comments Invited

We invite you to send any written relevant data, views, or arguments about this proposal. Send your comments to an address listed under the ADDRESSES section. Include “Docket No. FAA-2014-0187; Directorate Identifier 2012-NM-087-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We propose to adopt a new airworthiness directive (AD) for certain Hawker Beechcraft Corporation (Type Certificate previously held by Mitsubishi; Raytheon Aircraft Company) Model MU-300 airplanes, and Hawker Beechcraft Corporation (Type Certificate previously held by Raytheon Aircraft Company; Beech Aircraft Corporation) Model 400, 400A, and 400T airplanes. We have received multiple reports of fatigue cracking in the horizontal stabilizer ribs. This condition, if not corrected, could result in failure of the horizontal stabilizer and loss of pitch control of the airplane.

FAA's Determination

We are proposing this AD because we evaluated all the relevant information and determined the unsafe condition described previously is likely to exist or develop in other products of the same type design.

Proposed AD Requirements

This proposed AD would require repetitive radiographic (x-ray) inspections or borescope inspections for cracking of the horizontal stabilizer rib assemblies, and replacement if necessary, in accordance with a method approved by the Manager, Wichita Aircraft Certification Office (ACO), FAA.

Costs of Compliance

We estimate that this proposed AD affects 735 airplanes of U.S. registry.

We estimate the following costs to comply with this proposed AD:

Estimated Costs
Action | Labor cost | Parts cost | Cost per product | Cost on U.S. operators
Inspection | 20 work-hours × $85 per hour = $1,700 per inspection cycle | $30 | $1,730 per inspection cycle | $1,271,550 per inspection cycle.

We estimate the following costs to do any necessary replacements that would be required based on the results of the proposed inspection. We have no way of determining the number of aircraft that might need these replacements:

On-Condition Costs
Action | Labor cost | Parts cost | Cost per product
Replacement | 280 work-hours × $85 per hour = $23,800 | $8,321 | $32,121

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation (Type Certificate Previously held by Raytheon Aircraft Company; Beech Aircraft Corporation); and Hawker Beechcraft Corporation (Type Certificate Previously held by Mitsubishi; Raytheon Aircraft Company): Docket No. FAA-2014-0187; Directorate Identifier 2012-NM-087-AD.

(a) Comments Due Date

We must receive comments by May 19, 2014.

(b) Affected ADs

None.

(c) Applicability

This AD applies to the airplanes, certificated in any category, identified in paragraphs (c)(1) through (c)(5) of this AD.

(1) Hawker Beechcraft Corporation (Type Certificate previously held by Mitsubishi; Raytheon Aircraft Company) Model MU-300 airplanes, serial numbers A003SA through A093SA inclusive.

(2) Hawker Beechcraft Corporation (Type Certificate previously held by Raytheon Aircraft Company; Beech Aircraft Corporation) Model 400 airplanes, serial numbers RJ-1 through RJ-65 inclusive.

(3) Hawker Beechcraft Corporation (Type Certificate previously held by Raytheon Aircraft Company; Beech Aircraft Corporation) Model 400A airplanes, serial numbers RK-1 through RK-604 inclusive.

(4) Hawker Beechcraft Corporation (Type Certificate previously held by Raytheon Aircraft Company; Beech Aircraft Corporation) Model 400T (T-1A) airplanes, serial numbers TT-1 through TT-180 inclusive.

(5) Hawker Beechcraft Corporation (Type Certificate previously held by Raytheon Aircraft Company; Beech Aircraft Corporation) Model 400T (TX), serial numbers TX-1 through TX-13 inclusive.

(d) Subject

Air Transport Association (ATA) of America Code 55, Stabilizers.

(e) Unsafe Condition

This AD was prompted by multiple reports of fatigue cracking in the horizontal stabilizer ribs. We are issuing this AD to detect and correct such cracking, which could result in the failure of the horizontal stabilizer and loss of pitch control of the airplane.

(f) Compliance

Comply with this AD within the compliance times specified, unless already done.

(g) Repetitive Inspections

Before the accumulation of 7,400 total flight hours or within 6 months after the effective date of this AD, whichever occurs later, perform a radiographic (x-ray) inspection or a borescope inspection for cracking of the horizontal stabilizer rib assemblies, in accordance with a method approved by the Manager, Wichita Aircraft Certification Office (ACO), FAA. Repeat the inspection thereafter at intervals not to exceed 2,400 flight hours. For an inspection method to be approved by the Manager, Wichita ACO, as required by this paragraph, the Manager's approval letter must specifically refer to this AD.

(h) Replacement

If any cracking is found during any inspection required by paragraph (g) of this AD: Before further flight, replace the horizontal rib assemblies with new horizontal rib assemblies, in accordance with method to be approved by the Manager, Wichita ACO. For a replacement method to be approved by the Manager, Wichita ACO, as required by this paragraph, the Manager's approval letter must specifically refer to this AD. This replacement does not terminate the repetitive inspection requirements of paragraph (g) of this AD.

(i) Special Flight Permit

Special flight permits may be issued in accordance with sections 21.197 and 21.199 of the Federal Aviation Regulations (14 CFR 21.197 and 21.199) to operate the airplane to a location where the airplane can be repaired (if the operator elects to do so), provided the restrictions specified in paragraphs (i)(1) through (i)(4) of this AD are followed.

(1) Do not exceed 10 flight hours of operation.

(2) Only operations under daylight conditions and under visual flight rules are allowed.

(3) Only operations with the minimum flightcrew and with no passengers are allowed.

(4) Do not exceed maneuver speed as specified in the applicable airplane flight manual.

(j) Alternative Methods of Compliance (AMOCs)

(1) The Manager, Airframe Branch, ACE-118W, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

For more information about this AD, contact Paul Chapman, Aerospace Engineer, Airframe Branch, ACE-118W, FAA, Wichita Aircraft Certification Office (ACO), 1801 Airport Road, Room 100, Mid-Continent Airport, Wichita, Kansas 67209; telephone (316) 946-4152; fax (316) 946-4107.

Issued in Renton, Washington, on March 28, 2014.
Jeffrey E. Duven,
Manager, Transport Airplane Directorate, Aircraft Certification Service.

[FR Doc. 2014-07520 Filed 4-3-14; 8:45 am]

BILLING CODE 4910-13-P